DEPARTMENT OF VETERANS AFFAIRS

Commission on Care; Notice of Meeting

In accordance with the Federal Advisory Committee Act, 5 U.S.C., App. 2, the Commission on Care gives notice that it will meet on Monday, September 21 and Tuesday, September 22 at 1575 I Street NW., Washington, DC, ASAE Conference Center. The meeting will convene at 8:30 a.m. and end at 5:30 p.m. on September 21, and at 8:30 a.m. and end at 12:00 p.m. on September 22. The meeting is open to the public. Anyone attending must show a valid photo ID to building security and be escorted to the meeting. Please allow 15 minutes before the meeting begins for this process.

The purpose of the Commission, as described in section 202 of the Veterans Access, Choice, and Accountability Act of 2014 (VACAA), is to examine the access of Veterans to health care from the Department of Veterans Affairs (VA) and strategically examine how best to organize the Veterans Health Administration (VHA), locate health care resources, and deliver health care to Veterans during the next 20 years. In undertaking this assessment, the Commission will evaluate and assess the results of the Independent Assessment conducted by CMS Alliance to Modernize Healthcare in accordance with section 201 of VACAA.

On September 21, the Commission will hear from VA leadership and the CMS Alliance to Modernize Healthcare. CMS Alliance to Modernize Healthcare will provide an overview of the Independent Assessment it conducted in accordance with section 201. On September 22, the Commission will reconvene with a continued dialogue with CMS Alliance to Modernize Healthcare and a presentation by VHA.

No time will be allocated at this meeting for receiving oral presentations from the public. However, the public may submit written statements for the Commission's review to Sharon Gilles, Designated Federal Officer, Commission on Care, 1575 I (Eye) Street NW., Suite 240, Washington, DC 20005, or email at sharon.gilles@va.gov. Any member of the public wanting to attend may contact Ms. Gilles.

Dated: September 1, 2015.
Sharon Gilles,
Designated Federal Officer, Commission on Care.

[FR Doc. 2015-21974 Filed 9-3-15; 8:45 am]

BILLING CODE 8320-01-P